FEDERAL COMMUNICATIONS COMMISSION

47 CFR Part 73

[MB Docket No. 05-6; FCC 05-10]

Revision of the Public Notice Requirements of Section 73.3580

AGENCY: Federal Communications Commission.

ACTION: Notice of proposed rulemaking.

SUMMARY: This Notice of Proposed Rulemaking (“NPRM”) requests comment on whether we should modify the notice that radio and television station buyers and sellers are required to provide to the public in connection with proposed assignments and transfers of control. This NPRM also seeks comment on whether to eliminate the newspaper publication exemption for non-commercial educational (“NCE”) stations and stations that are the only operating station in their broadcast service in their community of license.

DATES: Comments are due August 1, 2005 and reply comments are due August 15, 2005. Written comments on the Paperwork Reduction Act proposed Information collection requirements must be submitted by the public, Office of Management and Budget (OMB), and other interested parties on or before August 29, 2005.

ADDRESSES: You may submit comments, identified by MB Docket No. 05-6, by any of the following methods:

• Federal eRulemaking Portal: http://www.regulations.gov. Follow the instructions for submitting comments.

• Federal Communications Commission Web site: http://www.fcc.gov/cgb/ecfs. Follow the instructions for submitting comments.

• People with Disabilities: Contact the FCC to request reasonable accommodations (accessible format documents, sign language interpreters, CART, etc.) by e-mail: FCC504@fcc.gov or phone: (202) 418-0530 or (202) 418-0432.

For detailed instructions on submitting comments and additional information on the rulemaking process, see the SUPPLEMENTARY INFORMATION section of this document.

In addition to filing comments as set forth above, a copy of any comments on the information collections contained herein should be submitted to Cathy Williams, Federal Communications Commission, Room 1-C823, 445 12th Street, SW., Washington, DC 20554 or via the Internet to Cathy Williams @fcc.gov, and to Kristy L. LaLonde, OMB Desk Officer, Room 10234 NEOB, 725 17th Street, NW., Washington, DC 20503, via the Internet to Kristy_L. LaLonde@omb.eop.gov, or via fax at 202-395-5167.

FOR FURTHER INFORMATION, CONTACT: Stephen Svab, Media Bureau at (202) 418-2700 or via Internet at stephen.svab@fcc.gov. For additional information concerning the Paperwork Reduction Act information collection requirements contained in this NPRM, contact Cathy Williams at 202-418-2918, or via the Internet at Cathy.Williams@fcc.gov. If you would like to obtain or view a copy of this revised information collection, you may do so by visiting the FCC PRA Web page at: http://www.fcc.gov/omd/pra.

SUPPLEMENTARY INFORMATION: This is a synopsis of the Commission's Notice of Proposed Rulemaking, MB Docket No. 05-6, adopted January 10, 2005 and released March 15, 2005. The full text of this decision is available for inspection and copying during normal business hours in the FCC Reference Information Center, Portals II, 445 12th Street, SW., Room CY-A257, Washington, DC 20554, and may be purchased from the Commission's copy contractor, Best Copy and Printing, Inc., Portals II, 445 12th Street, SW., Room CY-B402, Washington, DC 20554, telephone (202) 488-5300, facsimile (202) 488-5563, or via e-mail http://www.BCPIWeb.com or may be viewed via Internet at http://www.fcc.gov/mb/.

Initial Paperwork Reduction Act of 1995 Analysis

This document contains modified information collection requirements. The Commission, as part of its continuing effort to reduce paperwork burdens, invites the general public to comment on the information collection requirements contained in this NPRM as required by the Paperwork Reduction Act of 1995, Public Law 104-13. Public and agency comments are due August 29, 2005. Comments should address: (a) Whether the proposed collection of information is necessary for the proper performance of the functions of the Commission, including whether the information shall have practical utility; (b) the accuracy of the Commission's burden estimates; (c) ways to enhance the quality, utility, and clarity of the information collected; and (d) ways to minimize the burden of the collection of information on the respondents, including the use of automated collection techniques or other forms of information technology. In addition, pursuant to the Small Business Paperwork Relief Act of 2002, Pub. Law 107-198, see 44 U.S.C. 3506(c)(4), we seek specific comment on how we might “further reduce the information collection burden for small business concerns with fewer than 25 employees.”

OMB Control Number: 3060-0031.

Title: Application for Consent to Assignment of Broadcast Station Construction Permit or License; Application for Consent to Transfer Control of Entity Holding Broadcast Station Construction Permit or License; § 73.3580, Local Public Notice of Filing of Broadcast Applications.

Form Number: FCC Form 314 and FCC Form 315.

Type of Review: Revision of a currently approved collection.

Respondents: Business or other for-profit entities; Not-for-profit institutions.

Number of Respondents: 4,510.

Frequency of Response: On occasion reporting requirement; Third party disclosure requirement.

Estimated Time Per Response: 1 hour to 6 hours.

Total Annual Burden: 15,890 hours.

Total Annual Costs: $33,349,150.

Privacy Impact Assessment: No impact(s).

Needs and Uses: On January 10, 2005, the Commission adopted a Notice of Proposed Rulemaking (NRPM), In the Matter of the Revision of the Public Notice Requirements of § 73.3580, MB Docket No. 05-6, FCC 05-10. The NPRM proposes to revise 47 CFR 73.3580(c) to add the requirement for newspaper publication to non-commercial educational (NCE) stations and stations that are the only operating station in their broadcast service in their community of license. Currently, these stations are exempt from this requirement.

The NPRM also proposes to revise the § 73.3580(d) requirement that an applicant give notice of the filing of a application for renewal of the station's license or permit in a newspaper as described in 47 CFR 73.3580(c). The NPRM proposes that the notice must now appear in a specific text as described in the proposed revision of 47 CFR 73.3580(d)(3)(i).

Synopsis of the Notice of Propose Rule Making

1. This NPRM requests comment on whether we should modify the notice that radio and television station buyers and sellers are required to provide to the public in connection with proposed assignments and transfers of control.

2. This NPRM also seeks comment on whether to eliminate the newspaper publication exemption for non-commercial educational (“NCE”) stations and stations that are the only operating station in their broadcast service in their community of license.

Initial Regulatory Flexibility Analysis

3. Compliance requirements will naturally vary depending on the Commission's final decision in this proceeding. If the Commission decides at the final rules stage of this proceeding to modify the public notice regulations as proposed, applicants for consent to assignment of a construction permit or license for an AM, FM, or TV station or for consent to transfer control of an entity holding a construction permit or license for an AM, FM, or TV station would have to broadcast and publish public notice using the template proposed for inclusion in § 73.3580(d) of the Commission's rules (found in paragraph 5 of the NPRM). Additionally, if the Commission ultimately eliminates the current § 73.3580(e) exemption from the public notice requirements offered to noncommercial educational stations and stations that are the only operating station in their broadcast service in their community of license, applicants in these categories who file for assignment or transfer of a broadcast license would need to publish local notice of action in a newspaper of general circulation in the community to which the station is licensed. The Commission seeks comment on these proposals and their impact on small entities and on other ways to enhance the transparency of, and public participation in, the sales application review and licensing process.

Filing of Comments and Reply Comments

5. Pursuant to applicable procedures set forth in §§ 1.415 and 1.419 of the Commission's rules, 47 CFR 1.415 and 1.419, interested parties may file comments August 1, 2005, and reply comments August 15, 2005. Comments may be filed using the Commission's Electronic Comment Filing System (ECFS) or by filing paper copies. See Electronic Filing of Documents in Rulemaking Proceedings, 63 FR 24121 (1998).

6. Comments filed through the ECFS can be sent as an electronic file via the Internet to http://www.fcc.gov/e-file/ecfs.html. Generally, only one copy of an electronic submission must be filed. If multiple docket or rulemaking numbers appear in the caption of this proceeding, however, commenters must transmit one electronic copy of the comments to each docket or rulemaking number referenced in the caption. In completing the transmittal screen, commenters should include their full name, U.S. Postal Service mailing address, and the applicable docket or rulemaking number. Parties may also submit an electronic comment by Internet e-mail. To get filing instructions for e-mail comments, commenters should send an e-mail to ecfs@fcc.gov, and should include the following words in the body of the message, “get form <your e-mail address>.” A sample form and directions will be sent in reply.

7. Parties who choose to file by paper must file an original and four copies of each filing. If more than one docket or rulemaking number appears in the caption of this proceeding, commenters must submit two additional copies for each additional docket or rulemaking number.

Pursuant to §§ 1.415 and 1.419 of the Commission's rules, 47 CFR 1.415, 1.419, interested parties may file comments August 1, 2005, and reply comments August 15, 2005. Comments may be filed using the Commission's Electronic Comment Filing System (ECFS) or by filing paper copies. See Electronic Filing of Documents in Rulemaking Proceedings, 63 FR 24121 (1998).

Filings can be sent by hand or messenger delivery, by commercial overnight courier, or by first-class or overnight U.S. Postal Service mail (although we continue to experience delays in receiving U.S. Postal Service mail).

The Commission's contractor, Natek, Inc., will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building. Commercial overnight mail (other than U.S. Postal Service Express Mail and Priority Mail) must be sent to 9300 East Hampton Drive, Capitol Heights, MD 20743. U.S. Postal Service first-class mail, Express Mail, and Priority Mail should be addressed to 445 12th Street, SW., Washington, DC 20554. All filings must be addressed to the Commission's Secretary, Marlene H. Dortch, Office of the Secretary, Federal Communications Commission, 445 12th Street, SW., Room TW-A325, Washington, DC 20554. The Media Bureau contact for this proceeding is Stephen Svab at (202) 418-2700, TTY (202) 418-7172, or at stephen.svab@fcc.gov.

8. Parties who choose to file by paper should also submit their comments on diskette. Parties should submit diskettes to Stephen Svab, Media Bureau, 445 12th Street SW., Room 2-B418, Washington, DC 20554. Such a submission should be on a 3.5-inch diskette formatted in an IBM compatible form using MS DOS 5.0 and Microsoft Word, or compatible software. The diskette should be accompanied by a cover letter and should be submitted in “read only” mode. The diskette should be clearly labeled with the party's name, proceeding (including the lead docket number in this case (MB Docket No. 05-6), type of pleading (comments or reply comments), date of submission, and the name of the electronic file on the diskette. The label should also include the following phrase “Disk Copy—Not an Original.” Each diskette should contain only one party's pleadings, referable in a single electronic file. In addition, commenters must send diskette copies to the Commission's copy contractor, Best Copy and Printing, Inc., Portals II, 445 12th Street, SW., Room CY-B402, Washington, DC 20554.

List of Subjects in 47 CFR Part 73

Radio, Reporting and recordkeeping requirements, Television.

Federal Communications Commission.
Marlene H. Dortch,
Secretary.

Proposed Rule Changes

For the reasons discussed in the preamble, the Federal Communications Commission proposes to amend 47 CFR part 73 as set forth below:

PART 73—RADIO BROADCAST SERVICES

1. The authority for part 73 continues to read as follows:

Authority: 47 U.S.C. 154, 303, 334, 336 and 339.

2. Section 73.3580 is amended by revising paragraphs (c) introductory text, (d)(1), (d)(3), removing paragraph (e), redesignating paragraphs (f) through (i) as paragraphs (e) through (h), and by revising newly designated paragraphs (e) and (h) to read as follows:

§ 73.3580 Local public notice of filing of broadcast applications.

* * * * *

(c) An applicant who files an application or amendment thereto which is subject to the provisions of this section, must give notice of this filing in a newspaper. Exceptions to this requirement are applications for renewal of AM, FM, TV, Class A TV, non-commercial educational, those stations that are the only operating station in their broadcast service in their community of license and international broadcasting stations; low power TV stations; TV and FM translator stations; TV boosters stations; and FM boosters stations. The local public notice must be completed within 30 days of the tendering of the application. In the event the FCC notifies the applicant that a major change is involved, requiring the applicant to file public notice pursuant to §§ 73.3571, 73.3572, 73.3573 or 73.3578, this filing notice shall be given in a newspaper following this notification.

* * * * *

(d) * * *

(1) An applicant who files for renewal of a broadcast station license, other than a low power TV station license not locally originating programming as defined by § 74.701(h), an FM translator station or a TV translator station license, must give notice of this filing by broadcasting announcements on applicant's station. (Sample and schedule of announcements are below.) Newspaper publication is not required. An applicant who files for renewal of a low power TV station license not locally originating programming as defined by § 74.701(h), an FM translator station or a TV translator station license will comply with (f) below.

* * * * *

(3) Filing announcements. An applicant who files for modification, assignment or transfer of a broadcast station license (except for International broadcast, low power TV, TV translator, TV booster, FM translator and FM booster stations) shall give notice of the filing in a newspaper as described in paragraph (c) of this section, and also broadcast the same notice over the station as follows:

(i) At least once daily on four days in the second week immediately following either the tendering for filing of the application or immediately following notification to the applicant by the FCC that Public Notice is required pursuant to §§ 73.3571, 73.3572, 73.3573 or § 73.3578. For commercial radio stations these announcements shall be made between 7 a.m. and 9 a.m. and/or 4 p.m. and 6 p.m. For stations which neither operate between 7 a.m. and 9 a.m. nor between 4 p.m. and 6 p.m., these announcements shall be made during the first two hours of broadcast operation. For commercial TV stations, these announcements shall be made between 6 p.m. and 11 p.m. (5 p.m. and 10 p.m. Central and Mountain time). For applicants who file for an assignment or transfer of a broadcast license, the following announcement shall be broadcast in accordance with the terms outlined above in this section and published in a newspaper as described in paragraph (c) of this section: On (date of filing application), the owners of (call sign), (insert assignor or transferor here), filed an application with the FCC for consent to sell (call sign) to (insert assignee or transferee here). A copy of this application will be available for public inspection during our regular business hours. It contains additional information concerning the proposed buyer and the agreement for the sale of the station. Individuals who wish to advise the FCC of facts relating to this application may file comments and informal objections prior to Commission action on the application. Petitions to deny the application must be filed no later than (date the 30th day after issuance of the public notice of the acceptance for filing of the application). Further information concerning the FCC's station sale process is available at (address of location of the station's public inspection file) or may be obtained from the FCC, Washington, DC 20554 or the FCC Web site, at http://www.fcc.gov/e-file. After accessing this Web page, users should click on the “CDBS Public Access” link and follow instructions found there.

* * * * *

(e) The notice required by paragraphs (c) and (d) of this section shall contain, when applicable, the following information, except as otherwise provided in paragraph (d) of this section in regard to renewal applications and applications for assignment or transfer of license:

* * * * *

(h) Paragraphs (a) through (g) of this section apply to major amendments to license renewal applications. See § 73.3578(a).

[FR Doc. 05-13026 Filed 6-29-05; 8:45 am]

BILLING CODE 6712-01-P